DEPARTMENT OF COMMERCE

Submission for OMB Review; Comment Request

DOC has submitted to the Office of Management and Budget (OMB) for clearance the following proposal for collection of information under the provisions of the Paperwork Reduction Act (44 U.S.C. chapter 35).

Agency: Census Bureau.

Title: Information and Communication Technology Survey (ICTS).

Form Number(s): ICT-1(S), ICT-1(M), and ICT-1(L).

Agency Approval Number: None.

Type of Request: New collection.

Burden: 74,900 hours.

Number of Respondents: 46,000.

Avg Hours Per Response: 1 hour and 38 minutes.

Needs and Uses: For several years, economic data users and policymakers have been concerned about the lack of available data related to e-business infrastructure investment. Such data are critical for evaluating productivity growth, changes in industrial capacity, measures of economic performance, and current economic developments. Rapid changes and advances in Information and Communication Technology (ICT) equipment have resulted in these assets having short useful lives and a tendency to be replaced much quicker than other types of equipment. Companies are expensing the full cost of such assets during the current annual period rather than capitalizing the value of such assets and expensing the cost over two or more years. In some cases this is due to the short useful life of the asset, and in other cases this is because companies have varying dollar levels for capitalization.

The Annual Capital Expenditures Survey (ACES) (OMB # 0607-0782) currently collects annual data on business capital expenditures and detailed types of structures and equipment data every five years with the next such collection in the 2003 ACES. This infrequent collection of types of structures and equipment detail and the fact that the ACES does not include non-capitalized expenditures for e-business infrastructure investment creates serious data gaps.

As a result of the data gaps cited above, we are requesting approval to conduct the Information and Communication Technology Survey (ICTS) as a supplement to the ACES. For the ICTS, we plan to use the ACES sampling, follow-up and estimation methodologies including mailing to the same employer companies as the ACES. This data collection will supplement the current source of comprehensive statistics on business investment in equipment and software for private nonfarm businesses in the United States.

The proposed ICTS will annually collect industry-level data for two categories of non-capitalized expenses (purchases, and operating leases and rental payments) for four types of ICT equipment and software (computers and peripheral equipment; ICT equipment, excluding computers and peripherals; electromedical and electrotherapeutic apparatus; and, computer software, including payroll associated with software development). This collection will represent non-capitalized expenditure activity of all employer firms and provide comprehensive control estimates of total non-capitalized expense for each type of equipment and software by industry.

The ICT survey will be an important part of the Federal Government statistical program to improve and supplement ongoing statistical programs. The BEA will use this data to refine annual estimates of investment in equipment and software in the national income and product accounts and to improve estimates of capital stocks. The Bureau of Labor Statistics (BLS) will use the data to improve estimates of capital stocks for productivity analysis. The Federal Reserve Board (FRB) will use the data to improve estimates of investment indicators for monetary policy.

Affected Public: Business or other for-profit; Not-for-profit institutions.

Frequency: Annually.

Respondent's Obligation: Mandatory.

Legal Authority: Title 13 U.S.C., Sections 182, 224, & 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: February 12, 2004.
Madeleine Clayton,
Office of the Chief Information Officer.

[FR Doc. 04-3533 Filed 2-18-04; 8:45 am]

BILLING CODE 3510-07-P